FEDERAL COMMUNICATIONS COMMISSION

Notice of Public Information Collection(s) Being Reviewed by the Federal Communications Commission for Extension Under Delegated Authority, Comments Requested

September 9, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 15, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or e-mail Leslie.Smith@fcc.gov.

FOR FURTHER INFORMATION CONTACT: For additional information or copies of the information collection(s), contact Les Smith at (202) 418-0217 or e-mail Leslie.Smith@fcc.gov.

SUPPLEMENTARY INFORMATION: OMB Control Number: 3060-0665.

Title: Section 64.707, Public Dissemination of Information by Providers of the Operator Services.

Form Number: N/A.

Type of Review: Extension of a currently approved collection.

Respondents: Business or other for-profit entities.

Number of Respondents: 436.

Estimated Time per Response: 4 hours (avg ).

Frequency of Response: On occasion reporting requirement; Third party disclosure.

Total Annual Burden: 1,744 hours.

Total Annual Cost: None.

Privacy Impact Assessment: No impact(s).

Needs and Uses: As required by 47 U.S.C. Section 226(d)(4)(b), 47 CFR Section 64.707 provides that operator service providers must regularly publish and make available upon request from consumers written materials that describe any changes in operator services and choices available to consumers. Consumers use the information to increase their knowledge of the choices available to them in the operator services marketplace.

OMB Control Number: 3060-0973.

Title: Section 64.1120 (e)—Sale of Transfer of Subscriber Base to Another Carrier, CC Dockets 00-257 and 94-129.

Form Number: N/A.

Type of Review: Extension of a currently approved collection.

Respondents: Business or other for-profit entities.

Number of Respondents: 75.

Estimated Time per Response: 6 hours (avg).

Frequency of Response: On occasion reporting requirement; third party disclosure.

Total Annual Burden: 450 hours.

Total Annual Cost: None.

Privacy Impact Assessment: No impact(s).

Needs and Uses: Pursuant to 47 CFR 64.1120 (e), an acquiring carrier will self-certify to the Commission, in advance of the transfer, that the carrier will comply with the required procedures, including giving advance notice to the affected subscribers in a manner that ensures the protection of their interests. By streamlining the carrier change rules, the Commission will continue to protect consumers' interests and, at the same time, will ensure that its rules do not inadvertently inhibit routine business transactions. On July 16, 2004, the Commission released a First Order on Reconsideration and Fourth Order on Reconsideration which made a minor modification to 47 CFR 64.1120 (e) (iii).

The modification in the rule does not impose any new or modified information collection requirements. Also, the modification does not affect the existing annual hourly and cost changes.

Federal Communications Commission.
Marlene H. Dortch,
Secretary.

[FR Doc. 04-20790 Filed 9-14-04; 8:45 am]

BILLING CODE 06712-10-P